FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 5, 2016.

A. Federal Reserve Bank of Chicago (Colette A. Fried, Assistant Vice President) 230 South LaSalle Street, Chicago, Illinois 60690-1414:

1. Fred L. Drake, Hudson, Illinois, not Individually but as trustee of the Voting Trust dated as of May 4, 2016, and Allen C. Drake, El Paso Illinois, not individually but as successor trustee of such Voting Trust, and the following holders of voting trust certificates of such Voting Trust: Allen C. Drake, El Paso, Illinois, individually, as trustee of The George E. Drake Inter-vivos Family Trust dated May 16, 1985 and as trustee of the Elinor Drake Grandchildren Trust dated July 8, 1995; Arthur M. Drake, Bloomington, Illinois, individually and as trustee of the Arthur M. Drake Trust dated July 21, 2015; Fred L. Drake, Hudson, Illinois, not individually but as trustee of the Fred L. Drake Revocable Trust dated March 27, 2014 and as trustee of the Elinor Drake Grandchildren Trust dated July 8, 1995; Marcia Dudley, El Paso, Illinois; George E. Drake, El Paso, Illinois; Rita M. Drake, El Paso, Illinois; Matthew S. Drake, Morton, Illinois; John A. Drake, Sun Prairie, Wisconsin; Carl T. Drake, Bloomington, Illinois; James J. Drake, El Paso, Illinois; Sarah S. Eisenmann, Elmhurst, Illinois; Janet A. Drake, Bloomington, Illinois, not individually but as trustee of the Janet A. Drake Trust dated July 21, 2015; Jennifer Goemans, Sun Prairie, Wisconsin; Christopher A. Drake, Waunakee, Wisconsin; Michael E. Drake, Sun Prairie, Wisconsin; Jamie L. Drake, Hudson, Illinois, not individually but as trustee of the Jamie L. Drake Revocable Trust dated March 27, 2014; Melissa L. Drake, Hudson, Illinois; Monica Refsnyder, Tampa, Florida; Jeffrey G. Drake, Louisville, Kentucky; Martin K. Dudley, El Paso, Illinois; David M. Dudley, Leroy, Illinois; Joel T. Dudley, Chicago, Illinois; Andrea L. Dudley, Normal, Illinois; and Craig R. Dudley, Western Springs, Illinois; to retain 25 percent or more of the shares and thereby control of Heartland Bancorp, Inc., Bloomington, Illinois, and thereby indirectly control Heartland Bank and Trust Company, Bloomington, Illinois.

Board of Governors of the Federal Reserve System, June 14, 2016.
Michele Taylor Fennell,
Assistant Secretary of the Board.

[FR Doc. 2016-14381 Filed 6-16-16; 8:45 am]

BILLING CODE 6210-01-P